DEPARTMENT OF HOMELAND SECURITY

Coast Guard

33 CFR Part 117

[Docket No. USCG-2016-0360]

Drawbridge Operation Regulation; York River, Yorktown, VA

AGENCY: Coast Guard, DHS.

ACTION: Notice of deviation from drawbridge regulation.

SUMMARY: The Coast Guard has issued a temporary deviation from the operating schedule that governs the Coleman Memorial Bridge (US 17) across the York River, mile 7.0, Yorktown, VA. The deviation is necessary to perform bridge maintenance. This deviation allows the bridge to remain in the closed-to-navigation position.

DATES: This deviation is effective without actual notice from May 26, 2016 to 7 p.m. on July 17, 2016. For the purposes of enforcement, actual notice will be used from 7 a.m. on May 22, 2016, until May 26, 2016.

ADDRESSES: The docket for this deviation, [USCG-2016-0360] is available at http://www.regulations.gov. Type the docket number in the “SEARCH” box and click “SEARCH”. Click on Open Docket Folder on the line associated with this deviation.

FOR FURTHER INFORMATION CONTACT: If you have questions on this temporary deviation, call or email Mrs. Traci Whitfield, Bridge Administration Branch Fifth District, Coast Guard; telephone (757) 398-6629, email Traci.G.Whitfield@uscg.mil.

SUPPLEMENTARY INFORMATION: Virginia Department of Transportation (VDOT), the owner of the Coleman Memorial Bridge (US 17), has requested a temporary deviation from the current operating regulation to perform repairs. VDOT needs to perform mechanical work that cannot be accomplished when the bridge is moveable. The bridge must be in the closed-to-navigation position to perform the maintenance. The bridge is a single bascule span and has a vertical clearance in the closed position of seven feet above mean high water. The York River is used by a variety of vessels including deep draft ocean-going vessels, U. S. government vessels, Small commercial fishing vessels, recreational vessels and tug and barge traffic. The Coast Guard has carefully coordinated the restrictions with U. S. government and commercial waterway users.

Under this temporary deviation, the bridge will remain in the closed-to-navigation position from 7 a.m. to 7 p.m. as follows: Sunday, May 22, 2016; Sunday, June 5, 2016 with an inclement weather date on Sunday, June 12, 2016; Sunday, June 19, 2016 with an inclement weather date on Sunday, June 26, 2016; and Sunday, July 10, 2016 with an inclement weather date on Sunday, July 17, 2016. At all other times, the bridge will operate in accordance with the operating regulations set out in 33 CFR 117.1025.

Vessels able to pass through the bridge in the closed position may do so at anytime. The bridge will not be able to open for emergencies and there is no immediate alternate route for vessels unable to pass through the bridge in the closed position. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: May 19, 2016.
Hal R. Pitts,
Bridge Program Manager, Fifth Coast Guard District.

[FR Doc. 2016-12405 Filed 5-25-16; 8:45 am]

BILLING CODE 9110-04-P